Title 3—

The President

Proclamation 8003 of April 19, 2006

National Physical Fitness and Sports Month, 2006

By the President of the United States of America

A Proclamation

For 50 years, the President's Council on Physical Fitness and Sports has helped individuals, schools, communities, businesses, and organizations promote healthy lifestyles. During this year's National Physical Fitness and Sports Month, we celebrate the Council's 50th anniversary and underscore our Nation's strong commitment to health, physical activity, and fitness.

President Dwight D. Eisenhower founded the President's Council on Youth Fitness in 1956 to encourage America's youth to make fitness a priority. He wrote that year, “Our young people must be physically as well as mentally and spiritually prepared for American citizenship.” The Council later became the President's Council on Physical Fitness and Sports, including people of all ages and abilities and promoting fitness through sports and games.

Today, the Council continues to play an important role in promoting fitness and healthy living in America. My HealthierUS Initiative provides simple steps to help citizens live longer and better lives, and millions of young people and adults have participated in the President's Challenge awards program. The Council's website, fitness.gov, has information about these programs and other ways Americans can improve their health through physical activity. By exercising regularly and maintaining healthy eating habits, individuals can feel better and reduce their risk of chronic health conditions like obesity, diabetes, heart disease, and cancer. An active lifestyle also creates opportunities for friends and family to spend time together and enjoy various forms of exercise, such as biking, hiking, and team sports. The medical benefits, increased self-confidence, and stress reduction that can come from athletic activity help contribute to a healthier, more productive Nation.

I urge children, teens, and all Americans to make time every day for exercise and to encourage family, friends, and neighbors to live healthier lives by participating in physical fitness activities. As President Kennedy said at the 1961 Youth Fitness Conference, “We do not want in the United States a nation of spectators. We want a nation of participants in the vigorous life.”

NOW, THEREFORE, I, GEORGE W. BUSH, President of the United States of America, by virtue of the authority vested in me by the Constitution and laws of the United States, do hereby proclaim May 2006 as National Physical Fitness and Sports Month. I call upon the people of the United States to make daily exercise a priority. I encourage individuals, community organizations, and schools to celebrate with physical and athletic activities and to work toward the great national goal of an active, fit America.

IN WITNESS WHEREOF, I have hereunto set my hand this nineteenth day of April, in the year of our Lord two thousand six, and of the Independence of the United States of America the two hundred and thirtieth.

B

[FR Doc. 06-3914

Filed 4-21-06; 8:49 am]

Billing code 3195-01-P